DEPARTMENT OF TRANSPORTATION

Federal Aviation Administration

14 CFR Part 71

[Docket No. FAA-2024-2086; Airspace Docket No. 23-ANM-64]

RIN 2120-AA66

Amendment of United States Area Navigation (RNAV) Routes T-328 in the Vicinity of Deer Park, Washington

AGENCY: Federal Aviation Administration (FAA), DOT.

ACTION: Final rule.

SUMMARY: This action amends United States Area Navigation (RNAV) Routes T-328 by changing the name of the DAINA, WA, waypoint (WP) to the ZAGGS, WA, WP. The FAA is taking this action due to a similarly pronounced fix (DIANN) being located within five miles of the DAINA, WP. This action is an administrative change and does not affect the airspace boundaries or operating requirements.

DATES: Effective date 0901 UTC, October 31, 2024. The Director of the Federal Register approves this incorporation by reference action under 1 CFR part 51, subject to the annual revision of FAA Order JO 7400.11 and publication of conforming amendments.

ADDRESSES: A copy of this final rule and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. For further information, you can contact the Rules and Regulations Group, Federal Aviation Administration, 600 Independence Avenue SW, Washington, DC 20597; telephone: (202) 267-8783.

FOR FURTHER INFORMATION CONTACT: Steven Roff, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System (NAS).

History

The FAA identified a safety issue with similar sounding route point names, the DAINA, WA, WP and the DIANN, WA, Fix, located within five miles of each other, have contributed to communications errors resulting from the similar-sounding route point names in radio communications. To remedy this, the FAA is changing the name of the DAINA, WA, WP to the ZAGGS, WA, WP. As a result, the FAA is amending the description of T-328 to incorporate the name change.

Incorporation by Reference

United States Area Navigation routes (T-routes) are published in paragraph 6001 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11J lists Class A, B, C, D, and E airspace areas, air traffic service routes, and reporting points.

The Rule

This action amends 14 CFR part 71 by amending RNAV route T-328, changing the name of the DAINA, WA, WP to the ZAGGS, WA, WP in the description of RNAV Route T-328.

This action is an administrative change and does not affect the airspace boundaries or operating requirements; therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of amending RNAV Routes T-328 by changing the name of the DAINA, WA, WP, to the ZAGGS, WA, WP qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6011 United States Area Navigation Routes.

* * * * *

T-328 ORCUS, WA to KARSH, MT [Amended]
ORCUS, WA | FIX | (Lat. 48°20′39.54″ N, long. 123°07′44.01″ W)
BOCAT, WA | FIX | (Lat. 48°20′32.01″ N, long. 122°09′44.74″ W)
CREEB, WA | FIX | (Lat. 48°13′00.00″ N, long. 121°20′24.00″ W)
ROZSE, WA | WP | (Lat. 48°13′22.57″ N, long. 121°01′45.71″ W)
KRUZR, WA | FIX | (Lat. 48°04′38.90″ N, long. 120°34′40.72″ W)
KLSEY, WA | WP | (Lat. 48°00′48.36″ N, long. 119°33′35.71″ W)
SINGG, WA | WP | (Lat. 47°59′30.00″ N, long. 119°00′00.00″ W)
ROZTY, WA | WP | (Lat. 48°03′46.12″ N, long. 117°56′38.05″ W)
PRRKS, WA | WP | (Lat. 48°08′48.19″ N, long. 117°31′08.00″ W)
ZAGGS, WA | WP | (Lat. 48°08′43.44″ N, long. 117°07′27.78″ W)
INOBE, ID | FIX | (Lat. 48°04′54.58″ N, long. 116°45′47.03″ W)
RNDDY, ID | WP | (Lat. 48°09′16.26″ N, long. 116°15′12.45″ W)
KAPPN, MT | WP | (Lat. 48°09′23.04″ N, long. 115°28′13.84″ W)
KARSH, MT | WP | (Lat. 48°08′52.72″ N, long. 115°07′55.44″ W)

* * * * *

Issued in Washington, DC, on August 23, 2024.
Frank Lias,
Manager, Rules and Regulations Group.

[FR Doc. 2024-19339 Filed 8-29-24; 8:45 am]

BILLING CODE 4910-13-P